DEPARTMENT OF EDUCATION

Office of Special Education and Rehabilitative Services; Overview Information; Technical Assistance and Dissemination To Improve Services and Results for Children With Disabilities—National Technical Assistance Center on Assessment for Children With Disabilities; Notice Inviting Applications for New Awards for Fiscal Year (FY) 2005

Catalog of Federal Domestic Assistance (CFDA) Number: 84.326G.

Dates: Applications Available: August 8, 2005.

Deadline for Transmittal of Applications: September 7, 2005.

Deadline for Intergovernmental Review: September 19, 2005.

Eligible Applicants: State educational agencies (SEAs), local educational agencies (LEAs), public charter schools that are LEAs under State law, institutions of higher education (IHEs), other public agencies, private nonprofit organizations, outlying areas, freely associated States, Indian tribes or tribal organizations, and for-profit organizations.

Estimated Available Funds: $1,000,000.

Maximum Award: The Secretary does not intend to fund an application that proposes a budget exceeding $1,000,000 for a single budget period of 12 months.

Number of Awards: 1.

Note: The Department is not bound by any estimates in this notice.

Project Period: Up to 60 months.

Full Text of Announcement

I. Funding Opportunity Description

Purpose of Program: This program promotes academic achievement and improves results for children with disabilities by supporting technical assistance, model demonstration projects, dissemination of useful information, and implementation activities that are supported by scientifically based research.

Priority: In accordance with 34 CFR 75.105(b)(2)(v), this priority is from allowable activities specified in the statute (see sections 663 and 681(d) of the Individuals with Disabilities Education Act (IDEA).

Absolute Priority: For FY 2005 this priority is an absolute priority. Under 34 CFR 75.105(c)(3), we consider only applications that meet this priority.

This priority is:

National Technical Assistance Center on Assessment for Children With Disabilities

Background of Priority: Federal and State education policies, including those based on the No Child Left Behind Act of 2001 (NCLB), call for the inclusion of students with disabilities in assessment and accountability programs in order to improve educational results for these students. A series of recent Federal policies and initiatives are expected to enhance the inclusion of students with disabilities in assessments and accountability. Among these are the Department's regulations in 34 CFR part 200 permitting alternate assessments based on alternate achievement standards for students with the most significant cognitive disabilities. In addition, on April 7, 2005, the Secretary announced the intent to provide additional flexibility that will allow States to develop modified academic achievement standards and use alternate assessments based on these modified achievement standards for students served under the IDEA who do not have the most significant cognitive disabilities, but who are not able to participate in the regular assessment, even with accommodations. The Department is also preparing a “Tool Kit” with information to help States improve instruction and assessments for students with disabilities. On June 3, 2005, the Department announced in the Federal Register (70 FR 32583) a competition to support Comprehensive Regional and Content Centers that will focus on helping States to implement NCLB and to build their capacity to assist LEAs and schools in implementing NCLB. The Content Centers, one of which will focus specifically on assessments and accountability, are intended to work primarily through the Regional Centers in providing technical assistance.

Statement of Priority: This priority supports one cooperative agreement for a Center to provide technical assistance on improving results for students with disabilities by increasing their participation rates in high quality assessment and accountability systems, improving the quality of assessments in which they participate, improving the capacity of States to meet data collection requirements, and strengthening accountability for results. The Center must accomplish this mission through a combination of activities in the following areas: (1) Needs assessments and information gathering, (2) technical assistance and dissemination to improve the participation of students with disabilities in assessments and accountability systems, (3) technical assistance to improve the capacity of States to meet data collection requirements, (4) collaboration and leadership, and (5) other functions.

Activity Area (1): The Center's needs assessments and information gathering activities must include, but are not limited to:

(a) Conducting surveys of States and other entities to determine the status of the implementation of assessment and accountability policies related to students with disabilities;

(b) Analyzing State-reported assessment data to track the participation and performance of students with disabilities in large-scale assessments;

(c) Analyzing State and local policies and practices to determine the best approaches to improve the participation of students with disabilities in assessment and accountability systems;

(d) Synthesizing research information on relevant topics such as assessment accommodations, alternate assessments, data analysis and reporting, and other related areas; and

(e) Collecting research and technical information from the Technical Workgroup on Large Scale Assessment for Children with Disabilities, the National Alternate Assessment Center, the Research Institute on Progress Monitoring, research projects funded under the Research on Accessible Reading Assessments competition, and other federally funded projects as appropriate.

Activity Area (2): The Center's technical assistance and dissemination activities to improve the participation of students with disabilities in high-quality assessments and accountability systems must include, but are not limited to:

(a) Preparing and disseminating reports and documents on research findings and related topics;

(b) Maintaining a Web site with relevant information and documents in a format that meets a government or industry-recognized standard for accessibility;

(c) Conducting national and regional meetings and teleconferences, in collaboration with other centers such as the Federal and Regional Resource Centers and the Comprehensive Regional and Content Centers, to assist SEAs and LEAs and other relevant audiences in continuing the implementation of assessment and accountability policies for students with disabilities;

(d) Working directly with States and other stakeholders in collaboration with the Comprehensive Regional and Content Centers to increase the participation of students with disabilities in State and local assessment and accountability systems, and improve the quality of assessment procedures;

(e) Disseminating information to specific audiences, including teachers, families, administrators, policymakers and researchers, in collaboration with other technical assistance providers, organizations, and researchers; and

(f) Collaborating with the Comprehensive Content Centers, particularly the Center on Assessment and Accountability, to assist the Comprehensive Regional Centers in providing technical assistance to States by supplying them with research-based information, products, guidance, analyses, and tools.

Activity Area (3): The Center's technical assistance activities to improve the capacity of States to meet data collection requirements must include, but are not limited to:

(a) Conducting needs assessments and analyzing State reports to evaluate the capacity of States to collect data on the participation and performance of students with disabilities on large-scale assessments and to identify areas requiring technical assistance;

(b) Collecting information on best practices for State data collection;

(c) Developing technical assistance materials and resources that can be used to evaluate and improve the capacity of States to collect data on the participation and performance of students with disabilities on large-scale assessments; and

(d) Delivering and evaluating technical assistance to States to improve their capacity to collect data on the participation and performance of students with disabilities on large-scale assessments. Specific attention must be given to States engaged in large-scale assessment planning or implementation projects funded under the Office of Special Education Programs' (OSEP) General Supervision Enhancement Grant (GSEG) competition.

Activity Area (4): The Center's collaboration and leadership activities must include, but are not limited to:

(a) Participating in a community or communities of practice related to the Center's mission. The community or communities may include research experts, other federally funded projects (such as the Regional Resource Centers, the Federal Resource Center, the Center to Improve Access to the General Education Curriculum for Students with Disabilities at the Elementary and Middle School Levels, and the Comprehensive Regional and Content Centers), professional organizations (such as the National Association of State Directors of Special Education, the Council for Exceptional Children, and the Council of Chief State School Officers), and other projects and organizations (such as organizations representing parents or disability organizations); and

(b) Convening topical meetings, at the request of OSEP, to study issues and develop proactive recommendations for addressing challenges related to the participation of students with disabilities in assessment and accountability systems.

Activity Area (5): The Center must also:

(a) Develop a strategic plan and submit it to OSEP for review and approval. The plan must include, among other things, how the Center will collaborate with other Department of Education technical assistance centers, including the Comprehensive Regional and Content Centers. The plan must be revised and approved periodically as needed;

(b) Establish, maintain, and meet at least annually with a technical work group (TWG) to ensure that the highest standards of scientific rigor are maintained in the Center's work. Members of this TWG must be approved by OSEP and must include membership from the Technical Workgroup on Large Scale Assessment for Children with Disabilities and other research experts in the areas of large scale assessments, instructional improvement and reform, and instruction for students with disabilities;

(c) Establish, maintain, and meet at least annually with an advisory committee consisting of representatives of SEAs and LEAs, individuals with disabilities, parents, educators, professional organizations, advocacy groups, researchers, and other appropriate groups to review and advise on the Center's activities, accomplishments, and strategic plan. The committee must include membership that represents urban schools and underrepresented populations;

(d) Budget for three annual two-day meetings in Washington, DC to attend two Project Directors' meetings and an OSEP Leadership Conference; and

(e) Budget for at least one trip monthly to attend meetings organized by projects and organizations such as the Assessing Special Education Students State Collaborative on Assessment and Student Standards (ASES SCASS), the National Association of State Directors of Special Education, and Federal offices, on topics relevant to the Center's mission.

In deciding whether to continue this project for the fourth and fifth years, the Secretary will consider the requirements of 34 CFR 75.253(a), and in addition—

(a) The recommendation of a review team consisting of experts selected by the Secretary. The review will be conducted in Washington, DC during the last half of the project's second year. Applicants must budget for the travel associated with this one-day intensive review;

(b) The timeliness and effectiveness with which all requirements of the negotiated cooperative agreement have been or are being met by the Center; and

(c) The degree to which the Center is making a positive contribution to the participation of students with disabilities in State and local assessment and accountability systems.

Waiver of Proposed Rulemaking

Under the Administrative Procedure Act (APA) (5 U.S.C. 553), the Department generally offers interested parties the opportunity to comment on a proposed priority. However, section 681(d) of IDEA makes the public comment requirements under the APA inapplicable to the priorities in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: $1,000,000.

Maximum Award: The Secretary does not intend to fund an application that proposes a budget exceeding $1,000,000 for a single budget period of 12 months.

Number of Awards: 1.

Note: The Department is not bound by any estimates in this notice.

Project Period: Up to 60 months.

III. Eligibility Information

1. Eligible Applicants: SEAs, LEAs, public charter schools that are LEAs under State law, IHEs, other public agencies, private nonprofit organizations, outlying areas, freely associated States, Indian tribes or tribal organizations, and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this notice must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.326G.

Individuals with disabilities may obtain a copy of the application package in an alternative format (e.g., Braille, large print, audiotape, or computer diskette) by contacting the program contact person listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; the one-page abstract, the resumes, the bibliography, the references, or the letters of support. However, you must include all of the application narrative in Part III.

We will reject your application if—

• You apply these standards and exceed the page limit; or

• You apply other standards and exceed the equivalent of the page limit.

3. Submission Dates and Times: Applications Available August 8, 2005.

Deadline for Transmittal of Applications: September 7, 2005.

Applications for grants under this competition may be submitted electronically using the Grants.gov Apply site (Grants.gov), or in paper format by mail or hand delivery. For information (including dates and times) about how to submit your application electronically, or by mail or hand delivery, please refer to section IV. 6. Other Submission Requirements in this notice.

Deadline for Intergovernmental Review: September 19, 2005.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2005. The National Technical Assessment Center on Assessment for Children with Disabilities-CFDA Number 84.326G is one of the competitions included in this project.

If you choose to submit your application electronically, you must use the Grants.gov Apply site at http://www.Grants.gov. Through this site, you will be able to download a copy of the application package, complete it offline, and then upload and submit your application. You may not e-mail an electronic copy of a grant application to us.

You may access the electronic grant application for The National Technical Assessment Center on Assessment for Children with Disabilities at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete the steps in the Grants.gov registration process (see http://www.Grants.gov/GetStarted) and provide on your application the same D-U-N-S Number used with this registration. Please note that the registration process may take five or more business days to complete.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326G), 400 Maryland Avenue, SW., Washington, DC 20202-4260; or

By mail through a commercial carrier: U.S. Department of Education, Application Control Center—Stop 4260, Attention: (CFDA Number 84.326G), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326G), 550 12th Street, SW., Room 7041, Potomac Center Plaza, Washington, DC 20202-4260.

The Application Control Center accepts hand deliveries daily between 8:00 a.m. and 4:30 p.m., Washington, DC time, except Saturdays, Sundays and Federal holidays. Note for Mail or Hand Delivery of Paper Applications: f you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department is currently developing measures that will yield information on various aspects of the Technical Assistance to Improve Services and Results for Children with Disabilities program. The measures will focus on: the extent to which projects provide high quality products and services, the relevance of project products and services to educational and early intervention policy and practice, and the use of products and services to improve educational and early intervention policy and practice.

Once the measures are developed, we will notify grantees if they will be required to provide any information related to these measures.

Grantees will also be required to report information on their projects' performance in annual reports to the Department (34 CFR 75.590).

VII. Agency Contact

FOR FURTHER INFORMATION CONTACT: David Egnor, U.S. Department of Education, 400 Maryland Avenue, SW., room 4114, Potomac Center Plaza, Washington, DC 20202-2550. Telephone: (202) 245-7334.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 3, 2005.
Troy R. Justesen,
Deputy Assistant Secretary for Special Education and Rehabilitative Services.

[FR Doc. 05-15637 Filed 8-5-05; 8:45 am]

BILLING CODE 4000-01-P